FEDERAL RETIREMENT THRIFT INVESTMENT BOARD

Sunshine Act; Notice of Board Member Meeting

TIME AND DATE: 8:30 a.m., April 29, 2019.

PLACE: 77 K Street NE, 10th Floor, Washington, DC 20002.

STATUS: Parts of this meeting will be open to the public. The rest of the meeting will be closed to the public.

MATTERS TO BE CONSIDERED:

Agenda

Federal Retirement Thrift Investment Board

In Person

Board Meeting Agenda

PORTIONS OPEN TO THE PUBLIC:

Open Session

1. Approval of the March 25, 2019 Board Meeting Minutes

2. Monthly Reports

(a) Participant Activity Report

(b) Legislative Report

3. Quarterly Reports

(c) Investment Policy

(d) Budget Review

(e) Audit Status

4. OCFO Annual Report

5. Internal Audit

6. Annual Financial Audit—CLA

7. DOL Presentation

8. Withdrawal Project Update

PORTIONS CLOSED TO THE PUBLIC:

Executive Session

Material Covered by 5 U.S.C. 552b(c)(9)(B).

Adjourn

CONTACT PERSON FOR MORE INFORMATION: Kimberly Weaver, Director, Office of External Affairs, (202) 942-1640.

Dated: April 19, 2019.
Dharmesh Vashee,
Deputy General Counsel, Federal Retirement Thrift Investment Board.

[FR Doc. 2019-08221 Filed 4-22-19; 11:15 am]

BILLING CODE 6760-01-P